DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a proposed subsequent arrangement under the Agreement for Cooperation Between the Government of the United States of America and the Government of the Republic of Korea Concerning Peaceful Uses of Nuclear Energy.

DATES: This subsequent arrangement will take effect no sooner than April 18, 2017.

FOR FURTHER INFORMATION CONTACT: Mr. Richard S. Goorevich, Office of Nonproliferation and Arms Control, National Nuclear Security Administration, Department of Energy. Telephone: 202-586-0589 or email: Richard.Goorevich@nnsa.doe.gov.

SUPPLEMENTARY INFORMATION: This proposed subsequent arrangement concerns the advance consent list of countries or destinations referred to in paragraph 1.(c) of Article 18 of the Agreement for Cooperation Between the Government of the United States of America and the Government of the Republic of Korea Concerning Peaceful Uses of Nuclear Energy, done at Washington on June 15, 2015 (the Agreement) and paragraph 1.a. of section 3 of the Agreed Minute to the Agreement. Argentina, Australia, Brazil, Canada, Egypt, European Atomic Energy Community, Indonesia, Japan, Kazakhstan, Morocco, South Africa, Switzerland, Turkey, Ukraine, United Arab Emirates, and Vietnam are countries or destinations on the advance consent list and, therefore, are eligible to receive retransfers from the Republic of Korea of unirradiated low enriched uranium, unirradiated source material, equipment and components subject to paragraph 2 of Article 10 of the Agreement. The United States has an Agreement for Cooperation in the Peaceful Uses of Nuclear Energy, under the authority of section 123 of the Atomic Energy Act of 1954, as amended, in force with each of the countries or destinations that are on the advance consent list.

In accordance with section 131a. of the Atomic Energy Act of 1954, as amended, it has been determined that this proposed subsequent arrangement will not be inimical to the common defense and security of the United States of America.

Dated: February 27, 2017.
For the Department of Energy.
David G. Huizenga,
Acting Deputy Administrator, Defense Nuclear Nonproliferation.

[FR Doc. 2017-06500 Filed 3-31-17; 8:45 am]

BILLING CODE 6450-01-P